ENVIRONMENTAL PROTECTION AGENCY

40 CFR Part 52

[EPA-R05-OAR-2016-0230; FRL-9946-98-Region 5]

Air Plan Approval; Michigan; Update to Materials Incorporated by Reference

AGENCY: Environmental Protection Agency (EPA).

ACTION: Final rule; notice of administrative change.

SUMMARY: The Environmental Protection Agency (EPA) is updating the materials that are incorporated by reference (IBR) into the Michigan State Implementation Plan (SIP). The regulations, statutes, source-specific provisions and quasi-regulatory materials affected by this update have been previously submitted by the Michigan Department of Environmental Quality (MDEQ) and approved by EPA. This update affects the SIP materials that are available for public inspection at the National Archives and Records Administration (NARA), and the EPA Regional Office.

DATES: This action is effective June 28, 2016.

ADDRESSES: SIP materials which are incorporated by reference into 40 CFR part 52 are available for inspection at the following locations: Environmental Protection Agency, Region 5, 77 West Jackson Boulevard, Chicago, Illinois 60604, and the National Archives and Records Administration (NARA). For information on the availability of this material at NARA, call 202-741-6030, or go to: http://www.archives.gov/federal-register/cfr/ibr-locations.html. To view the material at the Region 5 Office, EPA requests that you email the contact listed in the FOR FURTHER INFORMATION CONTACT section.

FOR FURTHER INFORMATION CONTACT: Kathleen D'Agostino, Attainment Planning and Maintenance Section, Air Programs Branch (AR-18J), Environmental Protection Agency, Region 5, 77 West Jackson Boulevard, Chicago, Illinois 60604, (312) 886-1767, dagostino.kathleen@epa.gov.

SUPPLEMENTARY INFORMATION:

I. Background

A. What is a SIP?

Each state has a SIP containing the control measures and strategies used to attain and maintain the National Ambient Air Quality Standards (NAAQS). The SIP is extensive, containing elements covering a variety of subjects, such as air pollution control regulations, emission inventories, monitoring networks, attainment demonstrations, and enforcement mechanisms.

Each state must formally adopt the control measures and strategies in the SIP after the public has had an opportunity to comment on them. They are then submitted to EPA as SIP revisions on which EPA must formally act.

Once these control measures and strategies are approved by EPA, after notice and comment rulemaking, they are incorporated into the federally approved SIP and are identified in Title 40 of the Code of Federal Regulations part 52 “Approval and Promulgation of Implementation Plans” (40 CFR part 52). The actual state regulations approved by EPA are not reproduced in their entirety in 40 CFR part 52, but are “incorporated by reference,” which means that EPA has approved a given state regulation with a specific effective date. This format allows both EPA and the public to know which measures are contained in a given SIP and ensures that the state is enforcing the regulations. It also allows EPA and the public to take enforcement action, should a state not enforce its SIP-approved regulations.

B. How do the State and EPA update the SIP?

The SIP is a living document which a state revises as necessary to address its unique air pollution problems. Therefore, EPA must, from time to time, take action on SIP revisions containing new and/or revised regulations as being part of the SIP. On May 22, 1997 (62 FR 27968), EPA revised the procedures for incorporating by reference federally approved SIPs, as a result of consultations between EPA and the Office of the Federal Register (OFR). The description of the revised SIP document, IBR procedures, and “Identification of Plan” format are discussed in further detail in the May 22, 1997, Federal Register document. On September 6, 2006 (71 FR 52467), EPA published a document in the Federal Register revising the format of the IBR material for Michigan.

II. What action is EPA taking?

In this action, EPA is publishing updated tables listing the regulatory and quasi-regulatory materials in the Michigan SIP as of May 1, 2016. This update includes SIP materials that have been submitted by Michigan and approved by EPA since this revised format was first applied to the Michigan SIP in 2006. EPA is removing the EPA Headquarters Library from paragraph (b)(3), as IBR materials are no longer available at this location. Finally, EPA is correcting typographical errors, including omission and other minor errors, and making formatting changes to the tables in subsection 52.2170 (c), (d), and (e).

III. Incorporation by Reference

In this action, EPA is finalizing regulatory text that includes incorporation by reference. In accordance with requirements of 1 CFR 51.5, EPA is finalizing the incorporation by reference of the Michigan regulations described in the amendments to 40 CFR part 52 set forth below. EPA has made, and will continue to make, these documents generally available electronically through www.regulations.gov and/or in hard copy at the appropriate EPA office (see the ADDRESSES section of this preamble for more information).

IV. Good Cause Exemption

EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations and incorrect table entries.

V. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the Michigan SIP compilation previously afforded interested parties the opportunity to file a petition for judicial review in the United States Court of Appeals for the appropriate circuit within 60 days of such rulemaking action. Thus, EPA sees no need in this action to reopen the 60-day period for filing such petitions for judicial review for this “Identification of plan” reorganization update action for the State of Michigan.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides, Volatile organic compounds.

Dated: May 18, 2016.
Robert A. Kaplan,
Acting Regional Administrator, Region 5.

Part 52 of chapter I, title 40, Code of Federal Regulations, is amended as follows:

PART 52—APPROVAL AND PROMULGATION OF IMPLEMENTATION PLANS

1. The authority for citation for part 52 continues to read as follows:

Authority: 42 U.S.C. 7401 et seq.

2. Section 52.1170 is amended by revising paragraphs (b), (c), (d), and (e) to read as follows:

§ 52.1170 Identification of plan.

* * * * *

(b) Incorporation by reference. (1) Material listed in paragraphs (c), (d), and (e) of this section with an EPA approval date prior to May 1, 2016, was approved for incorporation by reference by the Director of the Federal Register in accordance with 5 U.S.C. 552(a) and 1 CFR part 51. Material is incorporated as it exists on the date of the approval, and notice of any change in the material will be published in the Federal Register. Entries in paragraphs (c), (d), and (e) of this section with the EPA approval dates after May 1, 2016, will be incorporated by reference in the next update to the SIP compilation.

(2) EPA Region 5 certifies that the rules/regulations provided by the EPA in the SIP compilation at the addresses in paragraph (b)(3) of this section are an exact duplicate of the officially promulgated state rules/regulations which have been approved as part of the SIP as of May 1, 2016.

(3) Copies of the materials incorporated by reference may be inspected at the Environmental Protection Agency, Region 5, Air Programs Branch, 77 West Jackson Boulevard, Chicago, IL 60604, and the National Archives and Records Administration. For information on the availability of this material at NARA, call 202-741-6030, or go to: http://www.archives.gov/federal-register/cfr/ibr-locations.html.

(c) EPA approved regulations.

EPA-Approved Michigan Regulations
Michigan citation | Title | State effective date | EPA approval date | Comments
Hazardous Waste Management
R 299.9109(p) | Used oil | 9/11/2000 | 4/17/2015, 80 FR 21183
Annual Reporting
R 336.202 | Annual reports | 11/11/1986 | 3/8/1994, 59 FR 10752
Part 1. General Provisions
R 336.1101 | Definitions; A | 4/28/1993 | 9/7/1994, 59 FR 46182 | Only: actual emissions, air-dried coating, air quality standard, allowable emissions, and alternate opacity.
R 336.1101 | Definitions; A | 2/22/1985 | 6/11/1992, 57 FR 24752 |
R 336.1102 | Definitions; B | 3/28/2008 | 12/16/2013, 78 FR 76064 |
R 336.1103 | Definitions; C | 4/28/1993 | 9/7/1994, 59 FR 46182 | Only: creditable.
R 336.1103 | Definitions; C | 3/28/2008 | 12/16/2013, 78 FR 76064 |
R 336.1104 | Definitions; D | 3/28/2008 | 12/16/2013, 78 FR 76064 |
R 336.1105 | Definitions; E | 3/28/2008 | 12/16/2013, 78 FR 76064 |
R 336.1106 | Definitions; F | 2/22/1985 | 6/11/1992, 57 FR 24752 |
R 336.1107 | Definitions; G | 5/28/2002 | 2/24/2003, 68 FR 8550 |
R 336.1108 | Definitions; H | 5/28/2002 | 2/24/2003, 68 FR 8550 |
R 336.1109 | Definitions: I | 3/28/2008 | 12/16/2013, 78 FR 76064 |
R 336.1112 | Definitions; L | 3/28/2008 | 12/16/2013, 78 FR 76064 |
R 336.1113 | Definitions: M | 3/28/2008 | 12/16/2013, 78 FR 76064 |
R 336.1114 | Definitions; N | 3/28/2008 | 12/16/2013, 78 FR 76064 |
R 336.1115 | Definitions; O | 8/22/1981 | 7/26/1982, 47 FR 32116 |
R 336.1116 | Definitions; P | 11/30/2012 | 4/4/2014, 79 FR 18802 |
R 336.1118 | Definitions; R | 5/28/2002 | 2/24/2003, 68 FR 8550 |
R 336.1119 | Definitions; S | 2/22/1985 | 6/11/1992, 57 FR 24752 |
R 336.1120 | Definitions; T | 5/28/2002 | 2/24/2003, 68 FR 8550 |
R 336.1121 | Definitions; U | 4/19/1989 | 9/15/1994, 59 FR 47254 |
R 336.1122 | Definitions; V | 11/30/2012 | 4/4/2014, 79 FR 18802 |
R 336.1123 | Definitions; W | 8/22/1981 | 7/26/1982, 47 FR 32116 |
R 336.1127 | Terms defined in the act | 1/19/1980 | 5/6/1980, 45 FR 29790 |
Part 2. Air Use Approval
R 336.1201 | Permits to install | 1/19/1980 | 5/6/1980, 45 FR 29790 |
R 336.1202 | Waivers of approval | 1/19/1980 | 5/6/1980, 45 FR 29790 |
R 336.1203 | Information required | 1/19/1980 | 5/6/1980, 45 FR 29790 |
R 336.1204 | Authority of agents | 1/19/1980 | 5/6/1980, 45 FR 29790 |
R 336.1206 | Processing of applications for other facilities | 1/19/1980 | 5/6/1980, 45 FR 29790 |
R 336.1207 | Denial of permits to install | 1/19/1980 | 5/6/1980, 45 FR 29790 |
R 336.1208 | Permits to operate | 1/19/1980 | 5/6/1980, 45 FR 29790 |
R 336.1221 | Construction of sources of particulate matter, sulfur dioxide, or carbon monoxide in or near nonattainment areas; conditions for approval | 7/17/1980 | 1/12/1982, 47 FR 1292 |
R 336.1240 | Required air quality models | 1/19/1980 | 5/6/1980, 45 FR 29790 |
R 336.1241 | Air quality modeling demonstration requirements | 1/19/1980 | 5/6/1980, 45 FR 29790 |
R 336.1280 | Permit system exemptions; cooling and ventilation equipment | 1/19/1980 | 5/6/1980, 45 FR 29790 |
R 336.1281 | Permit system exemptions; cleaning, washing and drying equipment | 1/19/1980 | 5/6/1980, 45 FR 29790 |
R 336.1282 | Permit system exemptions; cooling and ventilation equipment | 1/19/1980 | 5/6/1980, 45 FR 29790 |
R 336.1283 | Permit system exemptions; testing and inspection equipment | 7/17/1980 | 8/28/1981, 46 FR 43422 |
R 336.1284 | Permit system exemptions; containers | 1/19/1980 | 5/6/1980, 45 FR 29790 |
R 336.1285 | Permit system exemptions; miscellaneous | 1/19/1980 | 5/6/1980, 45 FR 29790 |
Part 3. Emission Limitations and Prohibitions—Particulate Matter
R 336.1301 | Standards for density of emissions | 3/19/2002 | 6/1/2006, 71 FR 31093 |
R 336.1303 | Grading visible emissions | 3/19/2002 | 6/1/2006, 71 FR 31093 |
R 336.1310 | Open burning | 4/1/2013 | 6/2/2015, 80 FR 31305 |
R 336.1331 | Emissions of particulate matter | 3/19/2002 | 6/1/2006, 71 FR 31093 | All except Table 31, section C.8.
R 336.1331, Table 31 | Particulate matter emission schedule | 1/19/1980 | 5/22/1981, 46 FR 27923 | Only Section C.7, preheater equipment.
R 336.1350 | Emissions from larry-car charging of coke ovens | 2/22/1985 | 6/11/1992, 57 FR 24752 |
R 336.1351 | Charging hole emissions from coke ovens | 2/22/1985 | 6/11/1992, 57 FR 24752 |
R 336.1352 | Pushing operation fugitive emissions from coke ovens | 2/22/1985 | 6/11/1992, 57 FR 24752 |
R 336.1353 | Standpipe assembly emissions during coke cycle from coke ovens | 2/22/1985 | 6/11/1992, 57 FR 24752 |
R 336.1354 | Standpipe assembly emissions during decarbonization from coke ovens | 2/22/1985 | 6/11/1992, 57 FR 24752 |
R 336.1355 | Coke oven gas collector main emissions from slot-type coke ovens | 1/19/1980 | 5/22/1981, 46 FR 27923 |
R 336.1356 | Coke oven door emissions from coke ovens; doors that are 5 meters or shorter | 2/22/1985 | 6/11/1992, 57 FR 24752 |
R 336.1357 | Coke oven door emissions from coke oven doors; doors that are taller than 5 meters | 2/22/1985 | 6/11/1992, 57 FR 24752 |
R 336.1358 | Roof monitor visible emissions at steel manufacturing facilities from electric arc furnaces and blast furnaces | 4/30/1998 | 6/1/2006, 71 FR 31093 |
R 336.1359 | Visible emissions from scarfer operation stacks at steel manufacturing facilities | 2/22/1985 | 6/11/1992, 57 FR 24752 |
R 336.1360 | Visible emissions from coke oven push stacks | 2/22/1985 | 6/11/1992, 57 FR 24752 |
R 336.1361 | Visible emissions from blast furnace casthouse operations at steel manufacturing facilities | 4/30/1998 | 6/1/2006, 71 FR 31093 |
R 336.1362 | Visible emissions from electric arc furnace operations at steel manufacturing facilities | 4/30/1998 | 6/1/2006, 71 FR 31093 |
R 336.1363 | Visible emissions from argon-oxygen decarburization operations at steel manufacturing facilities | 4/30/1998 | 6/1/2006, 71 FR 31093 |
R 336.1364 | Visible emissions from basic oxygen furnace operations | 2/22/1985 | 6/11/1992, 57 FR 24752 |
R 336.1365 | Visible emissions from hot metal transfer operations at steel manufacturing facilities | 2/22/1985 | 6/11/1992, 57 FR 24752 |
R 336.1366 | Visible emissions from hot metal desulphurization operations at steel manufacturing facilities | 2/22/1985 | 6/11/1992, 57 FR 24752 |
R 336.1367 | Visible emissions from sintering operations | 2/22/1985 | 6/11/1992, 57 FR 24752 |
R 336.1370 | Collected air contaminants | 2/18/1981 | 11/15/1982, 47 FR 51398 |
R 336.1371 | Fugitive dust control programs other than areas listed in Table 36 | 3/19/2002 | 6/1/2006, 71 FR 31093 |
R 336.1372 | Fugitive dust control program; required activities; typical control methods | 3/19/2002 | 6/1/2006, 71 FR 31093 |
R 336.1374 | Particulate matter contingency measures: Areas listed in Table 37 | 3/19/2002 | 6/1/2006, 71 FR 31093 |
Part 4. Emission Limitations and Prohibitions—Sulfur-Bearing Compounds
R 336.1401 | Emissions of sulfur dioxide from power plants | 3/11/2013 | 4/17/2015, 80 FR 21183 |
R 336.1401a | Definitions | 3/11/2013 | 4/17/2015, 80 FR 21183 |
R 336.1402 | Emission of SO2 from fuel-burning sources other than power plants | 3/11/2013 | 4/17/2015, 80 FR 21183 |
R 336.1403 | Oil- and natural gas-producing or transporting facilities and natural gas-processing facilities; emissions; operation | 3/19/2002 | 4/17/2015, 80 FR 21183 |
R 336.1404 | Emissions of SO2 and sulfuric acid mist from sulfuric acid plants | 3/11/2013 | 4/17/2015, 80 FR 21183 |
R 336.1405 | Emissions from sulfur recovery plants located within Wayne county | 1/31/2008 | 4/17/2015, 80 FR 21183 |
R 336.1406 | Hydrogen sulfide emissions from facilities located within Wayne county | 1/31/2008 | 4/17/2015, 80 FR 21183 |
R 336.1407 | Sulfur compound emissions from sources located within Wayne county and not previously specified | 3/11/2013 | 4/17/2015, 80 FR 21183 |
Part 6. Emission Limitations and Prohibitions—Existing Sources of Volatile Organic Compound Emissions
R 336.1601 | Definitions | 3/19/2002 | 6/1/2006, 71 FR 31093 |
R 336.1602 | General provisions for existing sources of volatile organic compound emissions | 4/10/2000 | 6/28/2002, 67 FR 43548 |
R 336.1604 | Storage of organic compounds having a true vapor pressure of more than 1.5 psia, but less than 11 psia, in existing fixed roof stationary vessels of more than 40,000 gallon capacity | 3/19/2002 | 6/1/2006, 71 FR 31093 |
R 336.1605 | Storage of organic compounds having a true vapor pressure of 11 or more psia in existing stationary vessels of more than 40,000 gallon capacity | 3/19/2002 | 6/1/2006, 71 FR 31093 |
R 336.1606 | Loading gasoline into existing stationary vessels of more than 2,000 gallon capacity at dispensing facilities handling 250,000 gallons per year | 3/19/2002 | 6/1/2006, 71 FR 31093 |
R 336.1607 | Loading gasoline into existing stationary vessels of more than 2,000 capacity at loading facilities | 3/19/2002 | 6/1/2006, 71 FR 31093 |
R 336.1608 | Loading gasoline into existing delivery vessels at loading facilities handling less than 5,000,000 gallons per year | 3/19/2002 | 6/1/2006, 71 FR 31093 |
R 336.1609 | Loading existing delivery vessels with organic compounds having a true vapor pressure of more than 1.5 psia at existing loading facilities handling 5,000,000 or more gallons of such compounds per year | 4/20/1989 | 9/15/1994, 59 FR 47254 |
R 336.1610 | Existing coating lines; emission of volatile organic compounds from existing automobile, light-duty truck, and other product and material coating lines | 4/28/1993 | 9/7/1994, 59 FR 46182 |
R 336.1611 | Existing cold cleaners | 6/15/1997 | 7/21/1999, 64 FR 39034 |
R 336.1612 | Existing open top vapor degreasers | 6/15/1997 | 7/21/1999, 64 FR 39034 |
R 336.1613 | Existing conveyorized cold cleaners | 6/15/1997 | 7/21/1999, 64 FR 39034 |
R 336.1614 | Existing conveyorized vapor degreasers | 6/15/1997 | 7/21/1999, 64 FR 39034 |
R 336.1615 | Existing vacuum-producing system at petroleum refineries | 3/19/2002 | 6/1/2006, 71 FR 31093 |
R 336.1616 | Process unit turnarounds at petroleum refineries | 3/19/2002 | 6/1/2006, 71 FR 31093 |
R 336.1617 | Existing organic compound-water separators at petroleum refineries | 3/19/2002 | 6/1/2006, 71 FR 31093 |
R 336.1618 | Use of cutback paving asphalt | 3/19/2002 | 6/1/2006, 71 FR 31093 |
R 336.1619 | Perchloroethylene; emission from existing dry cleaning equipment; disposal | 3/19/2002 | 6/1/2006, 71 FR 31093 |
R 336.1620 | Emission of volatile organic compounds from the coating of flat wood paneling from existing coating lines | 4/28/1993 | 9/7/1994, 59 FR 46182 |
R 336.1621 | Emission of volatile organic compounds from the coating of metallic surfaces from existing coating lines | 4/28/1993 | 9/7/1994, 59 FR 46182 |
R 336.1622 | Emission of volatile organic compound from existing component of a petroleum refinery; refinery monitoring program | 3/19/2002 | 6/1/2006, 71 FR 31093 |
R 336.1623 | Storage of petroleum liquids having a true vapor pressure of more than 1.0 psia but less than 11.0 psia, in existing external floating roof stationary vessels of more than 40,000 gallon capacity | 3/19/2002 | 6/1/2006, 71 FR 31093 |
R 336.1624 | Emission of volatile organic compound from an existing graphic arts line | 11/18/1993 | 9/7/1994, 59 FR 46182 |
R 336.1625 | Emission of volatile organic compound from existing equipment utilized in the manufacturing of synthesized pharmaceutical products | 11/30/2000 | 6/1/2006, 71 FR 31093 |
R 336.1627 | Delivery Vessels; Vapor Collection Systems | 2/22/2006 | 8/3/2007, 72 FR 43169 |
R 336.1628 | Emission of volatile organic compounds from components of existing process equipment used in manufacturing synthetic organic chemicals and polymers | 3/19/2002 | 6/1/2006, 71 FR 31093 |
R 336.1629 | Emission of volatile organic compounds from components of existing process equipment used in processing natural gas; monitoring program | 3/19/2002 | 6/1/2006, 71 FR 31093 |
R 336.1630 | Emission of volatile organic compounds from existing paint manufacturing processes | 3/19/2002 | 6/1/2006, 71 FR 31093 |
R 336.1631 | Emission of volatile organic compounds from existing process equipment utilized in manufacture of polystyrene of other organic resins | 3/19/2002 | 6/1/2006, 71 FR 31093 |
R 336.1632 | Emission of volatile organic compounds form existing automobile, truck, and business machine plastic part coating lines | 4/28/1993 | 9/7/1994, 59 FR 46182 |
R 336.1651 | Standards for degreasers | 6/15/1997 | 7/21/1999, 64 FR 39034 |
R 336.1660 | Standards for Volatile Organic Compounds Emissions from Consumer Products | 10/3/2007 | 5/22/2009, 74 FR 23952 |
R 336.1661 | Definitions for Consumer Products | 10/3/2007 | 5/22/2009, 74 FR 23952 |
Part 7. Emission Limitations and Prohibitions—New Sources of Volatile Organic Compound Emissions
R 336.1702 | General provisions for new sources of volatile organic compound emissions | 3/19/2002 | 6/1/2006, 71 FR 31093 |
R 336.1705 | Loading gasoline into delivery vessels at new loading facilities handling less than 5,000,000 gallons per year | 3/19/2002 | 6/1/2006, 71 FR 31093 |
R 336.1706 | Loading delivery vessels with organic compounds having a true vapor pressure of more than 1.5 psia at new loading facilities handling 5,000,000 or more gallons of such compounds per year | 6/15/1997 | 7/21/1999, 64 FR 39034 |
R 336.1707 | New cold cleaners | 6/15/1997 | 7/21/1999, 64 FR 39034 |
R 336.1708 | New open top vapor degreasers | 6/15/1997 | 7/21/1999, 64 FR 39034 |
R 336.1709 | New conveyorized cold cleaners | 6/15/1997 | 7/21/1999, 64 FR 39034 |
R 336.1710 | New conveyorized vapor degreasers | 6/15/1997 | 7/21/1999, 64 FR 39034 |
Part 8. Emission Limitations and Prohibitions—Oxides of Nitrogen
R 336.1801 | Emission of oxides of nitrogen from non-SIP call stationary sources | 5/28/2009 | 8/18/2009, 74 FR 41637 |
R 336.1802 | Applicability under oxides of nitrogen budget trading program | 5/20/2004 | 5/4/2005, 70 FR 23029 |
R 336.1802a | Adoption by reference | 5/28/2009 | 8/18/2009, 74 FR 41637 |
R 336.1803 | Definitions | 5/28/2009 | 8/18/2009, 74 FR 41637 |
R 336.1804 | Retired unit exemption from oxides of nitrogen budget trading program | 5/20/2004 | 5/4/2005, 70 FR 23029 |
R 336.1805 | Standard requirements of oxides of nitrogen budget trading program | 12/4/2002 | 5/4/2005, 70 FR 23029 |
R 336.1806 | Computation of time under oxides of nitrogen budget trading program | 12/4/2002 | 5/4/2005, 70 FR 23029 |
R 336.1807 | Authorized account representative under oxides of nitrogen budget trading program | 12/4/2002 | 5/4/2005, 70 FR 23029 |
R 336.1808 | Permit requirements under oxides of nitrogen budget trading program | 12/4/2002 | 5/4/2005, 70 FR 23029 |
R 336.1809 | Compliance certification under oxides of nitrogen budget trading program | 12/4/2002 | 5/4/2005, 70 FR 23029 |
R 336.1810 | Allowance allocations under oxides of nitrogen budget trading program | 12/4/2002 | 5/4/2005, 70 FR 23029 |
R 336.1811 | New source set-aside under oxides of nitrogen budget trading program | 5/20/2004 | 5/4/2005, 70 FR 23029 |
R 336.1812 | Allowance tracking system and transfers under oxides of nitrogen budget trading program | 12/4/2002 | 5/4/2005, 70 FR 23029 |
R 336.1813 | Monitoring and reporting requirements under oxides of nitrogen budget trading program | 12/4/2002 | 5/4/2005, 70 FR 23029 |
R 336.1814 | Individual opt-ins under oxides of nitrogen budget trading program | 12/4/2002 | 5/4/2005, 70 FR 23029 |
R 336.1815 | Allowance banking under oxides of nitrogen budget trading program | 12/4/2002 | 5/4/2005, 70 FR 23029 |
R 336.1816 | Compliance supplement pool under oxides of nitrogen budget trading program | 12/4/2002 | 5/4/2005, 70 FR 23029 |
R 336.1817 | Emission limitations and restrictions for Portland cement kilns | 12/4/2002 | 5/4/2005, 70 FR 23029 |
R 336.1818 | Emission limitations for stationary internal combustion engines | 11/20/2006 | 1/29/2008, 73 FR 5101 |
R 336.1821 | CAIR NOX ozone and annual trading programs; applicability determinations | 5/28/2009 | 8/18/2009, 74 FR 41637 |
R 336.1822 | CAIR NOX ozone season trading program; allowance allocations | 5/28/2009 | 8/18/2009, 74 FR 41637 |
R 336.1823 | New EGUs, new non-EGUs, and newly affected EGUs under CAIR NOX ozone season trading program; allowance allocations | 5/28/2009 | 8/18/2009, 74 FR 41637 |
R 336.1824 | CAIR NOX ozone season trading program; hardship set-aside | 6/25/2007 | 8/18/2009, 74 FR 41637 |
R 336.1825 | CAIR NOX ozone season trading program; renewable set-aside | 6/25/2007 | 8/18/2009, 74 FR 41637 |
R 336.1826 | CAIR NOX ozone season trading program; opt-in provisions | 6/25/2007 | 8/18/2009, 74 FR 41637 |
R 336.1830 | CAIR NOX annual trading program; allowance allocations | 5/28/2009 | 8/18/2009, 74 FR 41637 |
R 336.1831 | New EGUs under CAIR NOX annual trading program; allowance allocations | 5/28/2009 | 8/18/2009, 74 FR 41637 |
R 336.1832 | CAIR NOX annual trading program; hardship set-aside | 5/28/2009 | 8/18/2009, 74 FR 41637 |
R 336.1833 | CAIR NOX annual trading program; compliance supplement pool | 5/28/2009 | 8/18/2009, 74 FR 41637 |
R 336.1834 | Opt-in provisions under the CAIR NOX annual trading program | 6/25/2007 | 8/18/2009, 74 FR 41637 |
Part 9. Emission Limitations and Prohibitions—Miscellaneous
R 339.1906 | Diluting and concealing emissions | 3/19/2002 | 6/1/2006, 71 FR 31093 |
R 339.1910 | Air-cleaning devices | 1/19/1980 | 5/6/1980, 45 FR 29790 |
R 339.1911 | Malfunction abatement plans | 3/19/2002 | 6/1/2006, 71 FR 31093 |
R 336.1912 | Abnormal conditions, start-up, shutdown, and malfunction of a source, process, or process equipment, operating, notification, and reporting requirements | 7/26/1995, as corrected 6/1/2007 | 10/26/2007, 72 FR 60783 |
R 339.1915 | Enforcement discretion in instances of excess emission resulting from malfunction, start-up, or shutdown | 5/28/2002 | 2/24/2003, 68 FR 8550 |
R 339.1916 | Affirmative defense for excess emissions during start-up or shutdown | 5/28/2002 | 2/24/2003, 68 FR 8550 |
R 339.1930 | Emission of carbon monoxide from ferrous cupola operations | 3/19/2002 | 6/1/2006, 71 FR 31093 |
Part 10. Intermittent Testing and Sampling
R 336.2001 | Performance tests by owner | 3/19/2002 | 6/1/2006, 71 FR 31093 |
R 336.2002 | Performance tests by commission | 3/19/2002 | 6/1/2006, 71 FR 31093 |
R 336.2003 | Performance test criteria | 3/19/2002 | 6/1/2006, 71 FR 31093 |
R 336.2004 | Appendix A; reference test methods; adoption of federal reference test methods | 2/22/2006 | 8/3/2007, 72 FR 43169 |
R 336.2005 | Reference test methods for state-requested tests of delivery vessels | 2/22/2006 | 8/3/2007, 72 FR 43169 |
R 336.2006 | Reference test method serving as alternate version of federal reference test method 25 by incorporating Byron analysis | 4/28/1993 | 9/7/1994, 59 FR 46182 |
R 336.2007 | Alternate version of procedure L, referenced in R 336.2040(10) | 3/19/2002 | 6/1/2006, 71 FR 31093 |
R 336.2011 | Reference test method 5B | 4/29/2005 | 6/1/2006, 71 FR 31093 |
R 336.2012 | Reference test method 5C | 10/15/2004 | 6/1/2006, 71 FR 31093 |
R 336.2013 | Reference test method 5D | 3/19/2002 | 6/1/2006, 71 FR 31093 |
R 336.2014 | Reference test method 5E | 10/15/2004 | 6/1/2006, 71 FR 31093 |
R 336.2021 | Figures | 3/19/2002 | 6/1/2006, 71 FR 31093 |
R 336.2030 | Reference test method 9A | 2/22/1985 | 6/11/1992, 57 FR 24752 |
R 336.2031 | Reference test method 9B | 2/22/1985 | 6/11/1992, 57 FR 24752 |
R 336.2032 | Reference test method 9C | 2/22/1985 | 6/11/1992, 57 FR 24752 |
R 336.2033 | Test methods for coke oven quench towers | 2/22/1985 | 6/11/1992, 57 FR 24752 |
R 336.2040 | Method for determination of volatile organic compound emissions from coating lines and graphic arts lines | 3/19/2002 | 6/1/2006, 71 FR 31093 | All except sections (9) and (10).
R 336.2041 | Recording requirements for coating lines and graphic arts lines | 4/28/1993 | 9/7/1994, 59 FR 46182 |
Part 11. Continuous Emission Monitoring
R 336.2101 | Continuous emission monitoring, fossil fuel-fired steam generators | 3/19/2002 | 6/1/2006, 71 FR 31093 |
R 336.2102 | Continuous emission monitoring, sulfuric acid-producing facilities | 1/19/1980 | 11/2/1988, 53 FR 44189 |
R 336.2103 | Continuous emission monitoring, fluid bed catalytic cracking unit catalyst regenerators at petroleum refineries | 1/19/1980 | 11/2/1988, 53 FR 44189 |
R 336.2150 | Performance specifications for continuous emission monitoring systems | 3/19/2002 | 6/1/2006, 71 FR 31093 |
R 336.2151 | Calibration gases for continuous emission monitoring systems | 1/19/1980 | 11/2/1988, 53 FR 44189 |
R 336.2152 | Cycling time for continuous emission monitoring systems | 1/19/1980 | 11/2/1988, 53 FR 44189 |
R 336.2153 | Zero and drift for continuous emission monitoring systems | 1/19/1980 | 11/2/1988, 53 FR 44189 |
R 336.2154 | Instrument span for continuous emission monitoring systems | 1/19/1980 | 11/2/1988, 53 FR 44189 |
R 336.2155 | Monitor location for continuous emission monitoring systems | 3/19/2002 | 6/1/2006, 71 FR 31093 |
R 336.2159 | Alternative continuous emission monitoring systems | 3/19/2002 | 6/1/2006, 71 FR 31093 |
R 336.2170 | Monitoring data reporting and recordkeeping | 3/19/2002 | 6/1/2006, 71 FR 31093 |
R 336.2175 | Data reduction procedures for fossil fuel-fired steam generators | 11/15/2004 | 6/1/2006, 71 FR 31093 |
R 336.2176 | Data reduction procedures for sulfuric acid plants | 1/19/1980 | 11/2/1988, 53 FR 44189 |
R 336.2189 | Alternative data reporting or reduction procedures | 3/19/2002 | 6/1/2006, 71 FR 31093 |
R 336.2190 | Monitoring System Malfunctions | 3/19/2002 | 6/1/2006, 71 FR 31093 |
R 336.2199 | Exemptions from continuous emission monitoring requirements | 1/19/1980 | 11/2/1988, 53 FR 44189 | All except section (c), which was removed 7/21/1999, 64 FR 39034.
Part 16. Organization, Operation and Procedures
R 336.2606 | Declaratory rulings requests | 1/19/1980 | 11/2/1988, 53 FR 44189 |
R 336.2607 | Consideration and disposition of declaratory rulings requests | 1/19/1980 | 11/2/1988, 53 FR 44189 |
Part 17. Hearings
R 336.2701 | Procedures from Administrative Procedures Act | 4/10/2000 | 6/28/2002, 67 FR 43548 |
R 336.2702 | Service of notices and orders; appearances | 4/10/2000 | 6/28/2002, 67 FR 43548 |
R 336.2704 | Hearing commissioner's hearings | 1/19/1980 | 11/2/1988, 53 FR 44189 |
R 336.2705 | Agency files and records, use in connection with hearings | 1/19/1980 | 11/2/1988, 53 FR 44189 |
R 336.2706 | Commission hearings after hearing commissioner hearings | 1/19/1980 | 11/2/1988, 53 FR 44189 |
Part 18. Prevention of Significant Deterioration of Air Quality
R 336.2801 | Definitions | 11/30/2012 | 4/4/2014, 79 FR 18802 |
R 336.2802 | Applicability | 12/4/2006 | 3/25/2010, 75 FR 14352 |
R 336.2803 | Ambient Air Increments | 11/30/2012 | 4/4/2014, 79 FR 18802 |
R 336.2804 | Ambient Air Ceilings | 12/4/2006 | 3/25/2010, 75 FR 14352 |
R 336.2805 | Restrictions on Area Classifications | 12/4/2006 | 3/25/2010, 75 FR 14352 |
R 336.2806 | Exclusions from Increment Consumption | 12/4/2006 | 3/25/2010, 75 FR 14352 |
R 336.2807 | Redesignation | 12/4/2006 | 3/25/2010, 75 FR 14352 |
R 336.2808 | Stack Heights | 12/4/2006 | 3/25/2010, 75 FR 14352 |
R 336.2809 | Exemptions | 11/30/2012 | 4/4/2014, 79 FR 18802 | All except for section (5)(a)(iii).
R 336.2810 | Control Technology Review | 12/4/2006 | 3/25/2010, 75 FR 14352 |
R 336.2811 | Source Impact Analysis | 12/4/2006 | 3/25/2010, 75 FR 14352 |
R 336.2812 | Air Quality Models | 12/4/2006 | 3/25/2010, 75 FR 14352 |
R 336.2813 | Air Quality Analysis | 12/4/2006 | 3/25/2010, 75 FR 14352 |
R 336.2814 | Source Information | 12/4/2006 | 3/25/2010, 75 FR 14352 |
R 336.2815 | Additional Impact Analyses | 12/4/2006 | 3/25/2010, 75 FR 14352 |
R 336.2816 | Sources impacting federal class I areas; additional requirements | 11/30/2012 | 4/4/2014, 79 FR 18802 |
R 336.2817 | Public Participation | 12/4/2006 | 3/25/2010, 75 FR 14352 |
R 336.2818 | Source Obligation | 9/11/2008 | 9/27/2010, 75 FR 59081 |
R 336.2819 | Innovative Control Technology | 12/4/2006 | 3/25/2010, 75 FR 14352 |
R 336.2823 | Actuals Plantwide Applicability Limits (PALs) | 12/4/2006 | 3/25/2010, 75 FR 14352 | Only sections (1) through (14).
Part 19. New Source Review for Major Sources Impacting Nonattainment Areas
R 336.2901 | Definitions | 6/20/2008 | 12/16/2013, 78 FR 76064 |
R 336.2901a | Adoption by reference | 6/20/2008 | 12/16/2013, 78 FR 76064 |
R 336.2902 | Applicability | 6/20/2008 | 12/16/2013, 78 FR 76064 |
R 336.2903 | Additional permit requirements for sources impacting nonattainment areas | 6/20/2008 | 12/16/2013, 78 FR 76064 |
R 336.2907 | Plantwide applicability limits or PALs | 6/20/2008 | 12/16/2013, 78 FR 76064 |
R 336.2908 | Conditions for approval of a major new source review permit in a nonattainment area | 6/20/2008 | 12/16/2013, 78 FR 76064 |
Executive Orders
1991-31 | Commission of Natural Resources, Department of Natural Resources, Michigan Department of Natural Resources, Executive Reorganization | 1/7/1992 | 11/6/1997, 62 FR 59995 | Introductory and concluding words of issuance; Title I: General, Part A Sections 1, 2, 4 & 5 and Part B; Title III: Environmental Protection, Part A Sections 1 & 2 and Part D; Title IV: Miscellaneous, Parts A & B, Part C Sections 1, 2 & 4 and Part D.
1995-18 | Michigan Department of Environmental Quality, Michigan Department of Natural Resources, Executive Reorganization | 9/30/1995 | 11/6/1997, 62 FR 59995 | Introductory and concluding words of issuance; Paragraphs 1, 2, 3(a) & (g), 4, 7, 8, 9, 10, 11, 12, 13, 15, 16, 17, and 18.
State Statutes
Act 12 of 1993 | Small Business Clean Air Assistance Act | 4/1/1993 | 6/3/1994, 59 FR 28785 |
Act 44 of 1984, as amended | Michigan Motor Fuels Quality Act | 11/13/1993 | 5/5/1997, 62 FR 24341 | Only 290.642, 643, 645, 646, 647, and 649.
Act 127 of 1970 | Michigan Environmental Protection Act | 7/27/1970 | 5/31/1972, 37 FR 10841 |
Act 250 of 1965, as amended | Tax Exemption Act | 1972 | 5/31/1972, 37 FR 10841 |
Act 283 of 1964, as amended | Weights and Measures Act | 8/28/1964 | 5/5/1997, 62 FR 24341 | Only 290.613 and 290.615.
Act 348 of 1965, as amended | Air Pollution Act | 1972 | 5/31/1972, 37 FR 10841 |
Act 348 of 1965, as amended | Air Pollution Act | 1986 | 2/17/1988, 53 FR 4622 | Only section 7a.
Act 348 of 1965, as amended | Air Pollution Act | 1990 | 3/8/1994, 59 FR 10752 | Only sections 5 and 14a.
Act 451 of 1994, as amended | Natural Resources and Environmental Protection Act | 3/30/1995 | 2/10/1998, 63 FR 6650 | Only sections 324.5524 and 324.5525.
House Bill 4165 | Motor Vehicle Emissions Inspection and Maintenance Program Act | 11/13/1993 | 6/21/1996, 61 FR 31831 |
House Bill 4898 | An Act to amend section 3 of Act 44 of 1984 | 11/13/1993 | 10/11/1994, 59 FR 51379 |
House Bill 5016 | Motor Vehicle Emissions Testing Program Act | 11/13/1993 | 3/7/1995, 60 FR 12459 |
House Bill 5508 | Amendment to Motor Fuels Quality Act, Act 44 of 1984 | 4/6/2006 | 3/2/2007, 72 FR 4432 |
Michigan Civil Service Commission Rule 2-8.3(a)(1) | Disclosure | 10/1/2013 | 8/31/2015, 80 FR 52399 |
Senate Bill 726 | An Act to amend sections 2, 5, 6, 7, and 8 of Act 44 of 1984 | 11/13/1993 | 9/7/1994, 59 FR 46182 |
Local Regulations
City of Grand Rapids Ordinance 72-34 | City of Grand Rapids Air Pollution Control Regulations | 1972 | 5/31/1972, 57 FR 10841 | Ordinance amends sections 9.35 and 9.36 of article 4, Chapter 151 Title IX of the Code of the City of Grand Rapids.
Muskegon County Air Pollution Control Rules | Muskegon County Air Pollution Control Rules and Regulations, as amended | 3/27/1973 | 5/16/1984, 49 FR 20650 | Only article 14, section J.
Wayne County Air Pollution Control Ordinance | Wayne County Air Pollution Control Ordinance | 11/18/1985 | 5/13/1993, 58 FR 28359 | Only: chapters 1, 2, 3, 5 (except for the portions of section 501 which incorporate by reference the following parts of the state rules: the quench tower limit in R 336.1331, Table 31, section C.8; the deletion of the limit in R 336.1331 for coke oven coal preheater equipment; and R 336.1355), 8 (except section 802), 9, 11, 12, 13, and appendices A and D.
Wayne County Air Pollution Control Regulations | Wayne County Air Pollution Control Regulations | 3/20/1969 and amended 7/22/1971 | 5/6/1980, 45 FR 29790 | All except for Section 6.3 (A-H), which was removed 4/17/2015, 80 FR 21186.

(d) EPA approved state source-specific requirements.

EPA-Approved Michigan Source-Specific Provisions
Name of source | Order number | State effective date | EPA Approval date | Comments
Allied Signal, Inc., Detroit Tar Plant, Wayne County | 4-1993 | 10/12/1994 | 1/17/1995, 60 FR 3346
American Colloid Plant | Permit 341-79 | 12/18/1979 | 9/15/1983, 48 FR 41403
American Colloid Plant | Permit 375-79 | 11/23/1979 | 9/15/1983, 48 FR 41403
Asphalt Products Company, Plant 5A, Wayne County | 5-1993 | 10/12/1994 | 1/17/1995, 60 FR 3346
Clark Oil and Refining Corporation, Calhoun County | 6-1981 | 6/24/1982 | 12/13/1982, 47 FR 55678
Clawson Concrete Company, Plant #1, Wayne County | 6-1993 | 10/12/1994 | 1/17/1995, 60 FR 3346
Conoco, Inc., Berrien County | 17-1981 | 9/28/1981 | 2/17/1982, 47 FR 6828
Consumers Power Company, B. C. Cobb Plant, Muskegon County | 6-1979 | 12/10/1979 | 5/1/1981, 46 FR 24560
Consumers Power Company, J.H. Campbell Plant, Units 1 and 2, Ottawa County | 12-1984 | 10/1/1984 | 1/12/1987, 52 FR 1183
Continental Fibre Drum, Inc., Midland County | 14-1987 | 12/9/1987 | 6/11/1992, 57 FR 24752
Cummings-Moore Graphite Company, Wayne County | 7-1993 | 10/12/1994 | 1/17/1995, 60 FR 3346
CWC Castings Division of Textron, Muskegon County | 12-1979 | 2/15/1980 | 5/16/1984, 49 FR 20650
Delray Connecting Railroad Company, Wayne County | 8-1993 | 10/12/1994 | 1/17/1995, 60 FR 3346
Detroit Edison Company, Boulevard Heating Plant, Wayne County | 7-1981 | 4/28/1981 | 5/4/1982, 47 FR 19133
Detroit Edison Company, City of St. Clair, St. Clair County | 4-1978 | 11/14/1978 | 8/25/1980, 45 FR 56344
Detroit Edison Company, Monroe County | 9-1977 | 7/7/1977 | 12/21/1979, 44 FR 75635 (correction: 3/20/1980, 45 FR 17997)
Detroit Edison Company, River Rouge Power Plant, Wayne County | 9-1993 | 10/12/1994 | 1/17/1995, 60 FR 3346
Detroit Edison Company, Sibley Quarry, Wayne County | 10-1993 | 10/12/1994 | 1/17/1995, 60 FR 3346
Detroit Water and Sewerage Department, Wastewater Treatment Plant, Wayne County | 11-1993 | 10/12/1994 | 1/17/1995, 60 FR 3346
Diamond Crystal Salt Company, St. Clair County | 13-1982 | 9/8/1982 | 3/14/1983, 48 FR 9256
Dow Chemical Company, Midland County | 12-1981 | 6/15/1981 | 3/24/1982, 47 FR 12625
Dow Chemical Company, West Side and South Side Power Plants, Midland County | 19-1981 | 7/21/1981 | 3/24/1982, 47 FR 12625 | Only sections A(3), B, C, D, and E.
Dundee Cement Company, Monroe County | 8-1979 | 10/17/1979 | 8/11/1980, 45 FR 53137
Dundee Cement Company, Monroe County | 16-1980 | 11/19/1980 | 12/3/1981, 46 FR 58673
Eagle Ottawa Leather Company, Ottawa County | 7-1994 | 7/13/1994 | 10/23/1995, 60 FR 54308
Edward C. Levy Company, Detroit Lime Company, Wayne County | 15-1993 | 10/12/1994 | 1/17/1995, 60 FR 3346
Edward C. Levy Company, Plant #1, Wayne County | 16-1993 | 10/12/1994 | 1/17/1995, 60 FR 3346
Edward C. Levy Company, Plant #3, Wayne County | 17-1993 | 10/12/1994 | 1/17/1995, 60 FR 3346
Edward C. Levy Company, Plant #4 and 5, Wayne County | 19-1993 | 10/12/1994 | 1/17/1995, 60 FR 3346
Edward C. Levy Company, Plant #6, Wayne County | 18-1993 | 10/12/1994 | 1/17/1995, 60 FR 3346
Edward C. Levy Company, Scrap Up-Grade Facility, Wayne County | 20-1993 | 10/12/1994 | 1/17/1995, 60 FR 3346
Enamalum Corporation, Oakland County | 6-1994 | 6/27/1994 | 2/21/9196, 61 FR 6545
Ferrous Processing and Trading Company, Wayne County | 12-1993 | 10/12/1994 | 1/17/1995, 60 FR 3346
Ford Motor Company, Rouge Industrial Complex, Wayne County | 13-1993 | 10/12/1994 | 1/17/1995, 60 FR 3346
Ford Motor Company, Utica Trim Plant, Macomb County | 39-1993 | 11/12/1993 | 9/7/1994, 59 FR 46182
Ford Motor Company, Vulcan Forge, Wayne County | 14-1993 | 10/12/1994 | 1/17/1995, 60 FR 3346
General Motors Corporation, Buick Motor Division Complex, Flint, Genesee County | 10-1979 | 5/5/1980 | 2/10/1982, 47 FR 6013
General Motors Corporation, Buick Motor Division, Genesee County | 8-1982 | 4/2/1984 | 8/22/1988, 53 FR 31861 | Original order effective 7/12/1982, as altered effective 4/2/1982.
General Motors Corporation, Cadillac Motor Car Division, Wayne County | 12-1982 | 7/22/1982 | 7/5/1983, 48 FR 31022
General Motors Corporation, Central Foundry Division, Saginaw Malleable Iron Plant, Saginaw County | 8-1983 | 6/9/1983 | 12/13/1985, 50 FR 50907 | Supersedes paragraph 7.F of order 6-1980.
General Motors Corporation, Central Foundry Division, Saginaw Malleable Iron Plant, Saginaw County | 6-1980 | 7/30/1982 | 8/15/1983, 48 FR 36818 | Paragraph 7.F superseded by order 8-1983. Original order effective 6/3/1980, as altered effective 7/30/1982.
General Motors Corporation, Chevrolet Flint Truck Assembly, Genesee County | 10-1982 | 7/12/1982 | 7/5/1983, 48 FR 31022
General Motors Corporation, Chevrolet Motor Division, Saginaw Grey Iron Casting Plant and Nodular Iron Casting Plant, Saginaw County | 1-1980 | 4/16/1980 | 2/10/1982, 47 FR 6013
General Motors Corporation, Fisher Body Division, Fleetwood, Wayne County | 11-1982 | 7/22/1982 | 7/5/1983, 48 FR 31022
General Motors Corporation, Fisher Body Division, Flint No. 1, Genesee County | 9-1982 | 7/12/1982 | 7/5/1983, 48 FR 31022
General Motors Corporation, GM Assembly Division, Washtenaw County | 5-1983 | 5/5/1983 | 12/13/1984, 49 FR 5345
General Motors Corporation, Hydra-Matic Division, Washtenaw County | 3-1982 | 6/24/1982 | 3/4/1983, 48 FR 9256
General Motors Corporation, Oldsmobile Division, Ingham County | 4-1983 | 5/5/1983 | 12/13/1984, 49 FR 5345
General Motors Corporation, Warehousing and Distribution Division, Genesee County | 18-1981 | 7/28/1983 | 5/16/1984, 49 FR 20649 | Original order effective 12/1/1981, as altered effective 7/28/1983.
Hayes-Albion Corporation Foundry, Calhoun County | 2-1980 | 2/2/1982 | 9/15/1983, 48 FR 41403 | Original order effective 2/15/1980, as altered effective 2/2/1982.
J. H. Campbell Plant, Ottawa County | 5-1979 | 2/6/1980 | 12/24/1980, 45 FR 85004 (correction: 3/16/1981 46 FR 16895) | Original order effective 6/25/1979, as altered effective 2/6/1980.
Keywell Corporation, Wayne County | 31-1993 | 10/12/1994 | 1/17/1995, 60 FR 3346
Lansing Board of Water and Light | 4-1979 | 5/23/1979 | 12/17/1980, 45 FR 82926 | All except sections 7 A, B, C1, D, E, F, and section 8.
Marathon Oil Company, Muskegon County | 16-1981 | 7/31/1981 | 2/22/1982, 47 FR 7661
Marblehead Lime Company, Brennan Avenue Plant, Wayne County | 21-1993 | 10/12/1994 | 1/17/1995, 60 FR 3346
Marblehead Lime Company, River Rouge Plant, Wayne County | 22-1993 | 10/12/1994 | 1/17/1995, 60 FR 3346
McLouth Steel Company, Trenton Plant, Wayne County | 23-1993 | 10/12/1994 | 1/17/1995, 60 FR 3346
Michigan Foundation Company, Cement Plant, Wayne County | 24-1993 | 10/12/1994 | 1/17/1995, 60 FR 3346
Michigan Foundation Company, Sibley Quarry, Wayne County | 25-1993 | 10/12/1994 | 1/17/1995, 60 FR 3346
Monitor Sugar Company, Bay County | 21-1981 | 10/29/1981 | 5/19/1982, 47 FR 21534
Morton International, Inc., Morton Salt Division, Wayne County | 26-1993 | 10/12/1994 | 1/17/1995, 60 FR 3346
National Steel Corporation, Great Lakes Division, Wayne County | 27-1993 | 10/12/1994 | 1/17/1995, 60 FR 3346
National Steel Corporation, Transportation and Materials Handling Division, Wayne County | 28-1993 | 10/12/1994 | 1/17/1995, 60 FR 3346
New Haven Foundry, Inc., Macomb County | 12-1980 | 8/14/1980 | 2/10/1982, 47 FR 6013
Northern Michigan Electric Cooperative Advance Steam Plant, Charlevoix County | 16-1979 | 1/10/1980 | 7/2/1981, 46 FR 34584
Packaging Corporation of America, Manistee County | 23-1984 | 7/8/1985 | 5/4/1987, 52 FR 16246
Peerless Metal Powders, Incorporated, Wayne County | 29-1993 | 10/12/1994 | 1/17/1995, 60 FR 3346
Rouge Steel Company, Wayne County | 30-1993 | 10/12/1994 | 1/17/1995, 60 FR 3346
S. D. Warren Company, Muskegon | 9-1979 | 10/31/1999 | 1/27/1981, 46 FR 8476
St. Marys Cement Company, Wayne County | 32-1993 | 10/12/1994 | 1/17/1995, 60 FR 3346
Traverse City Board of Light and Power, Grand Traverse County | 23-1981 | 1/4/1982 | 5/19/1982, 47 FR 21534
Union Camp Corporation, Monroe County | 14-1979 | 1/3/1980 | 5/14/1981, 46 FR 26641
United States Gypsum Company, Wayne County | 33-1993 | 10/12/1994 | 1/17/1995, 60 FR 3346
VCF Films, Inc., Livingston County | 3-1993 | 6/21/1993 | 9/7/1994, 59 FR 46182
Woodbridge Corporation, Washtenaw County | 40-1993 | 11/12/1993 | 9/7/1994, 59 FR 46182
Wyandotte Municipal Power Plant, Wayne County | 34-1993 | 10/12/1994 | 1/17/1995, 60 FR 3346

(e) EPA approved nonregulatory and quasi-regulatory provisions.

EPA-Approved Michigan Nonregulatory and Quasi-Regulatory Provisions
Name of nonregulatory SIP provision | Applicable geographic or nonattainment area | State submittal date | EPA Approval date | Comments
Implementation plan for the control of suspended particulates, sulfur oxides, carbon monoxide, hydrocarbons, nitrogen oxides, and photochemical oxidants in the state of Michigan | Statewide | 2/3/1972 | 5/31/1972, 37 FR 10841 | Sections include: Air quality control regions, legal authority, air quality data, emission data, control strategy, control regulations, compliance plans and schedules, prevention of air pollution emergency episodes, air quality surveillance program, control of emission sources, organization and resources, and intergovernmental cooperation.
Reevaluation of control strategies | Berrien and Ingham Counties | 3/3/1972 | 10/28/1972, 37 FR 23085
Reasons and justifications | Statewide | 7/12/1972 | 10/28/1972, 37 FR 23085 | Concerning general requirements of control strategy for nitrogen dioxide, compliance schedules, and review of new sources and modifications.
Compliance schedules | Alpena, Baraga, Charlevoix, Huron, Ionia, Marquette, Midland, Muskegon, Oakland, Otsego, and St. Clair Counties | 5/4/1973, 9/19/1973, 10/23/1973, and 12/13/1973 | 8/5/1974, 39 FR 28155
Compliance schedules | Allegan, Eaton, Emmet, Genesee, Huron, Ingham, Macomb, Monroe, Ottawa, Saginaw, and St. Clair Counties | 2/16/1973 and 5/4/1973 | 9/10/1974, 39 FR 32606
Carbon monoxide control strategy | Saginaw area | 4/25/1979 | 5/6/1980, 45 FR 29790
Transportation control plans | Detroit urban area | 4/25/1979, 7/25/1979, 10/12/1979, 10/26/1979, 11/8/1979, 12/26/1979 | 6/2/1980, 45 FR 37188
Ozone control strategy for rural ozone nonattainment areas | Marquette, Muskegon, Gratiot, Midland, Saginaw, Bay, Tuscola, Huron, Sanilac, Ottawa, Ionia, Shiawassee, Lapeer, Allegan, Barry, Van Buren, Kalamazoo, Calhoun, Jackson, Berrien, Cass, Branch, Hillsdale, and Lenawee Counties | 4/25/1979, 7/25/1979, 10/12/1979, 10/26/1979, 11/8/1979, 12/26/1979 | 6/2/1980, 45 FR 37188
Transportation control plan | Niles | 4/25/1979, 10/26/1979, 11/8/1979, 12/26/1979, 8/4/1980, and 8/8/1980 | 4/17/1981, 46 FR 22373
Total suspended particulate studies | Detroit area | 3/7/1980 and 4/21/1981 | 2/18/1982, 47 FR 7227
Lead plan | Statewide | 12/27/1979 and 2/9/1981 | 4/13/1982, 47 FR 15792
Reduction in size of Detroit ozone area | Wayne, Oakland, Macomb, Livingston, Monroe, St. Clair, and Washtenaw Counties | 9/1/1982 | 7/7/1983, 48 FR 31199
Information relating to order 8-1982: letter dated 9/6/84 from Michigan Department of Natural Resources to EPA | Genesee County | 9/6/1984 | 8/22/1988, 53 FR 31861
Information relating to order 14-1987: letter dated 12/17/87 from Michigan Department of Natural Resources to EPA | Midland County | 12/17/1987 | 10/3/1989, 54 FR 40657
Appendices A and D of Wayne County Air Pollution Control Ordinance | Wayne County | 10/10/1986 | 5/13/1993, 58 FR 28359 | Effective 11/18/1985.
Information supporting emissions statement program | Statewide | 11/16/1992, 10/25/1993, and 2/7/1994 | 3/8/1994, 59 FR 10752 | 1991 Michigan air pollution reporting forms, reference tables, and general instructions.
I/M program | Grand Rapids and Muskegon areas | 11/12/1993 and 7/19/1994 | 10/11/1994, 59 FR 51379 | Includes: document entitled “Motor Vehicle Emissions Inspection and Maintenance Program for Southeast Michigan, Grand Rapids MSA, and Muskegon MSA Moderate Nonattainment Areas,” RFP, and supplemental materials.
PM-10 implementation plan | Wayne County | 6/11/1993, 4/7/1994, and 10/14/1994 | 1/17/1995, 60 FR 3346 | Reasonable further progress, RACM, contingency measures, 1985 base year emission inventory.
General conformity | Statewide | 11/29/1994 | 12/18/1996, 61 FR 66607
Transportation conformity | Statewide | 11/24/1994 | 12/18/1996, 61 FR 66609
7.8 psi Reid vapor pressure gasoline-supplemental materials | Wayne, Oakland, Macomb, Washtenaw, Livingston, St. Clair, and Monroe Counties | 5/16/1996, 1/5/1996, and 5/14/1996 | 5/5/1997, 62 FR 24341 | Includes: letter from Michigan Governor John Engler to Regional Administrator Valdas Adamkus, dated 1/5/1996, letter from Michigan Director of Environmental Quality Russell Harding to Regional Administrator Valdas Adamkus, dated 5/14/1996, and state report entitled “Evaluation of Air Quality Contingency Measures for Implementation in Southeast Michigan”.
Regional Haze Plan | Statewide | 11/5/2010 | 12/3/2012, 77 FR 71533 | Addresses all regional haze plan elements except BART emission limitations for EGUs, St. Marys Cement, Escanaba Paper, and Tilden Mining.
Attainment Demonstrations
1-hour ozone attainment demonstrations and transportation control plans | Flint, Lansing and Grand Rapids urban areas | 4/25/1979, 7/25/1979, 10/12/1979, 10/26/1979, 11/8/1979, 12/26/1979 | 6/2/1980, 45 FR 37188
Carbon monoxide and 1-hour ozone attainment demonstrations and I/M program | Detroit urban area | 4/25/1979, 7/25/1979, 10/12/1979, 10/26/1979, 11/8/1979, 12/26/1979, 3/20/1980, 5/12/1980, and 5/21/1980 | 6/2/1980, 45 FR 37192
Emissions Inventories
1-hour ozone 1990 base year | Grand Rapids (Kent and Ottawa Counties) and Muskegon areas | 1/5/1993 | 7/26/1994, 59 FR 37944
1-hour ozone 1990 base year | Detroit-Ann Arbor area (Livingston, Macomb, Monroe, Oakland, St. Clair, Washtenaw, and Wayne Counties) | 1/5/1993 and 11/29/1993 | 3/7/1995, 60 FR 12459
1-hour ozone 1990 base year | Flint (Genesee County) and Saginaw-Midland-Bay City (Bay, Midland, and Saginaw Counties) | 5/9/2000 | 11/13/2000, 65 FR 67629
1-hour ozone 1991 base year | Allegan County | 9/1/2000 and 10/13/2000 | 11/24/2000, 65 FR 70490
1997 8-hour ozone 2005 base year | Detroit-Ann Arbor (Lenawee, Livingston, Macomb, Monroe, Oakland, St. Clair, Washtenaw, and Wayne Counties) | 3/6/2009 | 6/29/2009, 74 FR 30950
1997 annual PM2.5 2005 base year | Detroit-Ann Arbor area (Livingston, Macomb, Monroe, Oakland, St. Clair, Washtenaw, and Wayne Counties) | 6/13/2008 | 11/6/2012, 77 FR 66547
Infrastructure
Public availability of emissions data | Statewide | 7/24/1972 | 10/28/1972, 37 FR 23085
Ambient air quality monitoring, data reporting, and surveillance provisions | Statewide | 12/19/1979 | 3/4/1981, 46 FR 15138
Provisions addressing sections 110(a)(2)(K), 126(a)(2), 127, and 128 of the Clean Air Act as amended in 1977 | Statewide | 4/25/1979 and 10/12/1979 | 6/5/1981, 46 FR 30082 | Concerns permit fees, interstate pollution, public notification, and state boards.
Section 121, intergovernmental consultation | Statewide | 5/25/1979 | 11/27/1981, 46 FR 57893
Section 110(a)(2) infrastructure requirements for the 1997 8-hour ozone NAAQS | Statewide | 12/6/2007, 7/19/2008, and 4/6/2011 | 7/13/2011, 76 FR 41075 | Approved CAA elements: 110(a)(2)(A), (B), (C), (D)(ii), (E), (F), (G), (H), (J), (K), (L), and (M).
Section 110(a)(2) infrastructure requirements for the 1997 PM2.5 NAAQS | Statewide | 12/6/2007, 7/19/2008, and 4/6/2011 | 7/13/2011, 76 FR 41075 | Approved CAA elements: 110(a)(2)(A), (B), (C), (D)(ii), (E), (F), (G), (H), (J), (K), (L), and (M).
Section 110(a)(2) infrastructure requirements for the 2006 24-hour PM2.5 NAAQS | Statewide | 8/15/2011, 7/9/2012, 7/10/2014 | 10/20/2015, 80 FR 63451 | Approved CAA elements: 110(a)(2)(A), (B), (C), (D)(i)(II), (D)(ii), (E), (F), (G), (H), (J), (K), (L), and (M). We are not taking action on the visibility protection requirements of (D)(i)(II).
Section 110(a)(2) infrastructure requirements for the 2008 lead (Pb) NAAQS | Statewide | 4/3/2012, 8/9/2013, 7/10/2014 | 10/20/2015, 80 FR 63451 | Approved CAA elements: 110(a)(2)(A), (B), (C), (D), (E), (F), (G), (H), (J), (K), (L), and (M).
Section 110(a)(2) Infrastructure Requirements for the 2008 ozone NAAQS | Statewide | 7/10/2014 | 10/13/2015, 80 FR 61311 | Approved CAA elements: 110(a)(2)(A), (B), (C), (D), (E), (F), (G), (H), (J), (K), (L), and (M). We are not taking action on (D)(i)(I) and the visibility portion of (D)(i)(II).
Section 110(a)(2) Infrastructure Requirements for the 2010 nitrogen dioxide (NO2) NAAQS | Statewide | 7/10/2014 | 10/13/2015, 80 FR 61311 | Approved CAA elements: 110(a)(2)(A), (B), (C), (D), (E), (F), (G), (H), (J), (K), (L), and (M). We are not taking action on the visibility portion of (D)(i)(II).
Section 110(a)(2) Infrastructure Requirements for the 2008 sulfur dioxide (SO2) NAAQS | Statewide | 7/10/2014 | 10/13/2015, 80 FR 61311 | Approved CAA elements: 110(a)(2)(A), (B), (C), (D), (E), (F), (G), (H), (J), (K), (L), and (M). We are not taking action on (D)(i)(I) and the visibility portion of (D)(i)(II).
Section 110(a)(2) Infrastructure Requirements for the 2012 particulate matter (PM2.5) NAAQS | Statewide | 7/10/2014 | 10/13/2015, 80 FR 61311 | Approved CAA elements: 110(a)(2)(A), (B), (C), (D), (E), (F), (G), (H), (J), (K), (L), and (M). We are not taking action on (D)(i)(I) and the visibility portion of (D)(i)(II).
Maintenance Plans
Carbon monoxide | Detroit area (portions of Wayne, Oakland, and Macomb Counties) | 3/18/1999 | 6/30/1999, 64 FR 35017 |
Carbon monoxide | Detroit area (portions of Wayne, Oakland, and Macomb Counties) | 12/19/2003 | 1/28/2005, 64 FR 35017 | Revision to motor vehicle emission budgets.
1-hour ozone | Detroit-Ann Arbor area (Livingston, Macomb, Monroe, Oakland, St. Clair, Washtenaw, and Wayne Counties) | 11/12/1994 | 3/7/1995, 60 FR 12459
1-hour ozone | Grand Rapids area | 3/9/1995 | 6/21/1996, 61 FR 31831
1-hour ozone | Muskegon County | 3/9/1995 | 8/30/2000, 65 FR 52651
1-hour ozone | Allegan County | 9/1/2000 and 10/13/2000 | 11/24/2000, 65 FR 70490
1-hour ozone | Flint (Genesee County) and Saginaw-Midland-Bay City (Bay, Midland, and Saginaw Counties) | 5/9/2000 | 11/13/2000, 65 FR 67629
1-hour ozone | Muskegon County | 3/22/2001 | 8/6/2001, 66 FR 40895 | Revision to motor vehicle emission budgets.
1-hour ozone update | Detroit-Ann Arbor area (Livingston, Macomb, Monroe, Oakland, St. Clair, Washtenaw, and Wayne Counties) | 12/19/2003 | 5/20/2005, 70 FR 29202
1997 8-hour ozone | Grand Rapids (Kent and Ottawa Counties), Kalamazoo-Battle Creek (Calhoun, Kalamazoo, and Van Buren Counties), Lansing-East Lansing (Clinton, Eaton, and Ingham Counties), Benzie County, Huron County, and Mason County | 5/9/2006, 5/26/2006, and 8/25/2006 | 5/16/2007, 72 FR 27425
1997 8-hour ozone | Flint (Genesee and Lapeer Counties), Muskegon (Muskegon County), Benton Harbor (Berrien County), and Cass County | 6/13/2006, 8/25/2006, and 11/30/2006 | 5/16/2007, 72 FR 27425
1997 8-hour ozone | Detroit-Ann Arbor (Lenawee, Livingston, Macomb, Monroe, Oakland, St. Clair, Washtenaw, and Wayne Counties) | 3/6/2009 | 6/29/2009, 74 FR 30950
Particulate matter | Macomb, Oakland, Wayne and Monroe Counties | 6/27/1974 and 10/18/1974 | 6/2/1975, 40 FR 23746
PM-10 | Wayne County | 7/24/1995 | 8/5/1996, 61 FR 40516
1997 Annual PM2.5 | Detroit-Ann Arbor area (Livingston, Macomb, Monroe, Oakland, St. Clair, Washtenaw, and Wayne Counties) | 7/05/2011 | 8/29/2013, 78 FR 53274
2006 24-Hour PM2.5 | Detroit-Ann Arbor area (Livingston, Macomb, Monroe, Oakland, St. Clair, Washtenaw, and Wayne Counties) | 7/05/2011 | 8/29/2013, 78 FR 53274
Negative Declarations
Negative declarations | Wayne, Oakland and Macomb Counties | 10/10/1983, 5/17/1985, and 6/12/1985 | 11/24/1986, 51 FR 42221 | Includes large petroleum dry cleaners, high-density polyethylene, polypropylene, and polystyrene resin manufacturers, and synthetic organic chemical manufacturing industry—oxidation.
Negative declarations | Detroit-Ann Arbor Area (Livingston, Macomb, Monroe, Oakland, St. Clair, Washtenaw and Wayne Counties) Grand Rapids Area (Kent and Ottawa Counties), and Muskegon County | 3/30/1994 | 9/7/1994, 59 FR 46182 | Includes: Large petroleum dry cleaners, SOCMI air oxidation processes, high-density polyethylene and polypropylene resin manufacturing and pneumatic rubber tire manufacturing.
Section 182(f) NOX Exemptions
1-hour ozone | Detroit-Ann Arbor area (Livingston, Macomb, Monroe, Oakland, St. Clair, Washtenaw, and Wayne Counties) | 11/12/1993 | 8/10/1994, 59 FR 40826
1-hour ozone | Clinton, Ingham, Eaton, and Genesee Counties | 7/1/1994 and 7/8/1994 | 4/27/1995, 60 FR 20644
1-hour ozone | Kent, Ottawa, Muskegon, Allegan, Barry, Bay, Berrien, Branch, Calhoun, Cass, Clinton, Eaton, Gratiot, Genesee, Hillsdale, Ingham, Ionia, Jackson, Kalamazoo, Lenawee, Midland, Montcalm, St. Joseph, Saginaw, Shiawassee, and Van Buren Counties | 7/13/1994 | 1/26/1996, 61 FR 2428
1-hour ozone | Muskegon County | 11/22/1995 | 9/26/1997, 62 FR 50512
1997 8-hour ozone | Grand Rapids (Kent and Ottawa Counties), Kalamazoo-Battle Creek (Calhoun, Kalamazoo, and Van Buren Counties), Lansing-East Lansing (Clinton, Eaton, and Ingham Counties), Benzie County, Huron County and Mason County | 1/17/2015 | 6/6/2006, 71 FR 32448

[FR Doc. 2016-15141 Filed 6-27-16; 8:45 am]

BILLING CODE 6560-50-P